DEPARTMENT OF ENERGY

Office of Science; Climate Change Science Program Product Development Advisory Committee

AGENCY: Department of Energy.

ACTION: Notice of teleconference meeting postponement.

SUMMARY: On October 17, 2007, the Department of Energy published a notice of open teleconference meeting of the Climate Change Science Program Product Development Advisory Committee 72 FR 58836. Today's notice is announcing the postponement of the teleconference meeting scheduled for October 29, 2007. The next meeting will be scheduled for later this year.

Issued in Washington, DC on October 18, 2007.
Rachel Samuel,
Deputy Committee Management Officer.

[FR Doc. E7-20916 Filed 10-23-07; 8:45 am]

BILLING CODE 6450-01-P